DEPARTMENT OF ENERGY

Federal Energy Regulatory Commission

[Docket No. RP01-593-000]

Destin Pipeline Company, L.L.C., Notice of Tariff Filing and Annual Charge Adjustment

September 13, 2001.

Take notice that on September 7, 2001, Destin Pipeline Company, L.L.C. (Destin) tendered for filing as part of its FERC Gas Tariff, Original Volume No. 1, the following tariff sheets to become effective October 1, 2001:

Fifth Revised Sheet No. 5

Fourth Revised Sheet No. 6

Fourth Revised Sheet No. 7

Destin states that the above-referenced tariff sheets are being filed pursuant to Section 23 of the General Terms and Conditions of Destin's Tariff to reflect a decrease of the Annual Charge Adjustment surcharge to $0.0021 per Dth based on the Commission's Annual Charge Billing for Fiscal Year 2001.

Any person desiring to be heard or to protest said filing should file a motion to intervene or a protest with the Federal Energy Regulatory Commission, 888 First Street, NE., Washington, DC 20426, in accordance with Sections 385.214 or 385.211 of the Commission's Rules and Regulations. All such motions or protests must be filed on or before September 20, 2001. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-23397 Filed 9-19-01; 8:45 am]

BILLING CODE 6717-01-P